CORPORATION FOR NATIONAL AND COMMUNITY SERVICE

Sunshine Act Meeting

The Board of Directors of the Corporation for National and Community Service gives notice of the following meeting:

Date and Time: Tuesday, February 10, 2004, 9 a.m.-11 a.m.

Place: Corporation for National and Community Service, 1201 New York Avenue, NW., 8th Floor, Room 8410, Washington, DC 20525.

Status: Open.

Matters To Be Considered:

I. Chair's Opening Remarks

II. Administer Oath to Board Members

III. Consideration of Prior Meeting's Minutes

IV. Committee Reports

V. CEO Report

VI. Panel Discussion

VII. Recognition of Departing Board Members

VIII. Public Comment

Accommodations: Anyone who needs an interpreter or other accommodation should notify the Corporation's contact person by 5 p.m. Thursday, February 5, 2004.

FOR FURTHER INFORMATION CONTACT: David Premo, Public Affairs Associate, Public Affairs, Corporation for National and Community Service, 8th Floor, Room 8612C, 1201 New York Avenue NW., Washington, DC 20525. Phone (202) 606-5000 ext. 278. Fax (202) 565-2784. TDD: (202) 565-2799. E-mail: dpremo@cns.gov.

Dated: February 2, 2004.
Frank R. Trinity,
General Counsel.

[FR Doc. 04-2549 Filed 2-2-04; 3:59 pm]

BILLING CODE 6050-$$-P